DEPARTMENT OF HOMELAND SECURITY

Federal Emergency Management Agency

44 CFR Part 65

[Docket No. FEMA—B-1011]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | Town of Cave Creek (08-09-0722P) | September 17, 2008; September 24, 2008; Sonoran News | The Honorable Vincent Francia, Mayor, Town of Cave Creek, 5140 East New River Road, Cave Creek, AZ 85331 | January 22, 2009 | 040129
Santa Cruz | Unincorporated areas of Santa Cruz County (07-09-1052P) | September 5, 2008; September 12, 2008; Nogales International | The Honorable Manny Ruiz, Chairman, Santa Cruz County, Board of Supervisors, 2150 North Congress Drive, Nogales, AZ 85621 | January 12, 2009 | 040090
Yavapai | Unincorporated areas of Yavapai County (08-09-1638P) | September 17, 2008; September 24, 2008; Prescott Daily Courier | The Honorable Chip Davis, Chairman, Yavapai County, Board of Supervisors, 1015 Fair Street, Prescott, AZ 86305 | October 6, 2008 | 040093
Florida: Sarasota | Unincorporated areas of Sarasota County (08-04-1962P) | September 12, 2008; September 19, 2008; Sarasota Herald-Tribune | The Honorable Shannon Staub, Chair, Sarasota County Commission, 1660 Ringling Boulevard, Sarasota, FL 34236 | January 20, 2009 | 125144
Georgia:
Athens-Clarke | Unincorporated areas of Sarasota County (08-04-4142P) | September 12, 2008; September 19, 2008; Athens Banner Herald | The Honorable Heidi Davison, Mayor, Athens-Clarke County, 235 Wells Drive, Athens, GA 30606 | August 29, 2008 | 130040
DeKalb | Unincorporated areas of DeKalb County (08-04-3686P) | September 18, 2008; September 25, 2008; The Champion | The Honorable Vernon Jones, Chief Executive Officer, DeKalb County, 1300 Commerce Drive, Decatur, GA 30030 | August 29, 2008 | 130065
Idaho: Blaine | Unincorporated areas of Blaine County (08-10-0169P) | September 17, 2008; September 24, 2008; Idaho Mountain Express | The Honorable Tom Bowman, Chairman, Blaine County Board of Commissioners, 206 First Street South, Suite 300, Hailey, ID 83333 | August 29, 2008 | 165167
Illinois: DuPage | Village of Lisle (08-05-3888P) | September 16, 2008; September 23, 2008; Daily Herald | The Honorable Joseph Broda, Mayor, Village of Lisle, 925 Burlington Avenue, Lisle, IL 60532 | January 21, 2009 | 170211
New Mexico: Dona Ana | City of Las Cruces (08-06-1760P) | September 5, 2008; September 12, 2008; Las Cruces Bulletin | The Honorable Ken Miyagishima, Mayor, City of Las Cruces, P.O. Box 20000, Las Cruces, NM 88004 | August 25, 2008 | 355332
North Carolina: Orange | Orange County (Unincorporated Areas) (08-04-1666P) | August 15, 2008; August 22, 2008; Chapel Hill Herald | Mr. Barry Jacobs, Chair, Board of Commissioners, Orange County, 2105 Moorefields Road, Hillsborough, North Carolina 27278 | December 22, 2008 | 370342
Ohio:
Franklin | City of Columbus (07-05-3141P) | August 21, 2008; August 28, 2008; The Columbus Dispatch | The Honorable Michael B. Coleman, Mayor, City of Columbus, 90 West Broad Street, Columbus, OH 43215 | December 26, 2008 | 390170
Franklin | Unincorporated areas of Franklin County (07-05-3141P) | August 21, 2008; August 28, 2008; The Columbus Dispatch | The Honorable Mary Jo Kilroy, President, Franklin County Board of Commissioners, 373 South High Street, 26th Floor, Columbus, OH 43215 | December 26, 2008 | 390167
Franklin | City of Grove City (07-05-3141P) | August 21, 2008; August 28, 2008; The Columbus Dispatch | The Honorable Richard L. Stage, Mayor, City of Grove City, 4035 Broadway Street, Grove City, OH 43123 | December 26, 2008 | 390173
Oregon: Multnomah, Clackamas, and Washington | City of Portland (08-10-0276P) | September 16, 2008; September 23, 2008; Daily Journal of Commerce | The Honorable Tom Potter, Mayor, City of Portland, 1221 Southwest Fourth Avenue, Suite 340, Portland, OR 97204 | January 21, 2009 | 410183
Texas:
Bexar | City of San Antonio (07-06-2565P) | September 5, 2008; September 12, 2008; San Antonio Express News | THe Honorable Phil Hardberger, Mayor, City of San Antonio, P.O. Box 839966, San Antonio, TX 78283 | January 12, 2009 | 480045
Collin | Town of Prosper (08-06-0479P) | September 11, 2008; September 18, 2008; Dallas Morning News | The Honorable Charles Niswanger, Mayor, Town of Prosper, P.O. Box 307, Prosper, TX 75078 | August 29, 2008 | 480141
Tarrant and Denton | City of Fort Worth (08-06-2456P) | September 5, 2008; September 12, 2008; Fort Worth Star-Telegram | The Honorable Mike J. Moncrief, Mayor, City of Fort Worth, 1000 Throckmorton Street, Fort Worth, TX 76102 | August 19, 2008 | 480596
Johnson | City of Burleson (08-06-0660P) | August 6, 2008; August 13, 2008; Burleson Star | The Honorable Kenneth Shetter, Mayor, City of Burleson, 141 West Renfro Street, Burleson, TX 76028 | December 11, 2008 | 485459
Tarrant | City of Euless (08-06-0770P) | April 4, 2008; April 11, 2008; Colleyville Courier | The Honorable Mary Saleh, Mayor, City of Euless, 201 North Ector Drive, Euless, TX 76039 | August 11, 2008 | 480593
Tarrant | City of Fort Worth (07-06-0534P) | September 5, 2008; September 12, 2008; Fort Worth Star-Telegram | The Honorable Mike J. Moncrief, Mayor, City of Fort Worth, 1000 Throckmorton Street, Fort Worth, TX 76102 | January 12, 2009 | 480596
Travis | City of Austin (08-06-1041P) | September 16, 2008; September 23, 2008; Austin American-Statesman | The Honorable Will Wynn, Mayor, City of Austin, P.O. Box 1088, Austin, TX 78767 | January 21, 2009 | 480624
Washington: King | City of Burien (07-10-0686P) | September 8, 2008; September 15, 2008; The Seattle Times | The Honorable Joan McGilton, Mayor, City of Burien, 15811 Ambaum Boulevard Southwest, Suite C, Burien, WA 98168 | January 13, 2009 | 530321

(Catalog of Federal Domestic Assistance No. 97.022, “Flood Insurance.”)

Dated: October 9, 2008.
Michael K. Buckley,
Acting Assistant Administrator, Mitigation Directorate, Department of Homeland Security, Federal Emergency Management Agency.

[FR Doc. E8-25265 Filed 10-22-08; 8:45 am]

BILLING CODE 9110-12-P